ENVIRONMENTAL PROTECTION AGENCY

[FRL-9908-84-OA]

Request for Nominations for the Clean Air Scientific Advisory Committee (CASAC) Review Panel for Oxides of Nitrogen and Sulfur

AGENCY: Environmental Protection Agency (EPA).

ACTION: Notice.

SUMMARY: The U.S. Environmental Protection Agency (EPA or Agency) Science Advisory Board (SAB) Staff Office is seeking nominations of nationally recognized experts for consideration for membership on a new Clean Air Scientific Advisory Committee (CASAC) Review Panel on scientific assessments to support EPA's decisions on secondary (welfare-based) air quality standards for oxides of nitrogen (NOX) and oxides of sulfur (SOX).

DATES: New nominations should be submitted by April 17, 2014.

FOR FURTHER INFORMATION CONTACT: Any member of the public wishing further information regarding this Request for Nominations may contact Dr. Holly Stallworth, Designated Federal Officer (DFO), EPA Science Advisory Board (1400R), U.S. Environmental Protection Agency, 1200 Pennsylvania Avenue NW., Washington, DC 20460; via telephone/voice mail: (202) 564-2073 or email at stallworth.holly@epa.gov. General information concerning the CASAC can be found on the EPA Web site at: http://www.epa.gov/casac.

SUPPLEMENTARY INFORMATION: The CASAC was established pursuant to the Clean Air Act (CAA) Amendments of 1977, codified at 42 U.S.C. 7409(d)(2), to review air quality criteria and NAAQS and recommend any new NAAQS and revisions of existing criteria and NAAQS as may be appropriate. The CASAC shall also provide advice, information, and recommendations to the Administrator on the scientific and technical aspects of issues related to the criteria for air quality standards, research related to air quality, sources of air pollution, and of adverse effects which may result from various strategies to attain and maintain air quality standards. The CASAC is a Federal Advisory Committee chartered under the Federal Advisory Committee Act (FACA), 5 U.S.C., App. 2. Section 109(d)(1) of the CAA requires that the Agency periodically review and revise, as appropriate, the air quality criteria and the NAAQS for the six “criteria” air pollutants, including NOX and SOX. EPA is currently preparing to review the secondary (welfare-based) air quality criteria for NOX and SOX.

The SAB Staff Office is establishing a panel of experts to augment the chartered CASAC to provide EPA advice on its scientific assessments on this topic. The CASAC and the CASAC NOX and SOX Secondary Review Panel will comply with the provisions of FACA and all appropriate EPA and SAB Staff Office procedural policies.

This Federal Register notice seeks nominations of nationally-recognized experts regarding NOX and SOX in one or more of the following disciplines. (a) Ecological Effects. Expertise in evaluation of the effects of exposure to gas-phase oxides of nitrogen and sulfur, nitrogen deposition and acidification caused by deposition of nitrogen and sulfur, on agricultural crops and natural ecosystems and their components, both flora and fauna, ranging from biochemical/sub-cellular effects on organisms to increasingly more complex levels of ecosystem organization and biodiversity. Appropriate expertise disciplines include: aquatic chemistry; aquatic ecology/biology; limnology; terrestrial ecology; forest ecology; grassland ecology; rangeland ecology; terrestrial/aquatic biogeochemistry; marine and estuarine ecology; landscape ecology; terrestrial/aquatic nutrient cycling; and terrestrial/aquatic wildlife biology and soil chemistry. (b) Other Welfare Effects. Expertise in the evaluation of the effects of oxides of nitrogen and sulfur and acid deposition on public welfare including damage to materials, and the interactions of these pollutants to affect global climate conditions. (c) Ecosystem Exposure and Risk Assessment/Modeling. Expertise in terrestrial and aquatic or biogeochemical modeling across a range of scales from local watershed to landscape to continental, static and dynamic ecosystem response models, integrated assessment models, identification of bio-indicators useful for tracking ecosystem change, methods and approaches available to estimate total loadings of sulfur and nitrogen species to ecosystems, and the current state of critical loads science and application. Expertise in modeling sensitivity of ecosystems to climate change as it relates to effects from nitrogen and sulfur oxides exposure. (d) Ecosystem services and resource valuation. Expertise in connecting ecological effects to incremental changes in provision of various final ecosystem services, both aquatic and terrestrial and subsequent incremental changes in the value of those services monetary or nonmonetary. (e) Atmospheric Science. Expertise in physical and chemical properties of oxides of nitrogen, reduced and organic forms of nitrogen, and oxides of sulfur; atmospheric processes involved in their formation and transport on urban to global scales; transformation of these pollutants in the atmosphere; and movement of the pollutants between media through deposition and other such mechanisms. Also, expertise in the evaluation of natural and anthropogenic sources and emissions of oxides of nitrogen and sulfur; pertinent monitoring or measurement methods for the atmospheric concentration and deposition of these pollutants; and spatial and temporal trends in their atmospheric concentrations and deposition.

Process and Deadline for Submitting Nominations: Any interested person or organization may nominate qualified individuals for consideration of membership on the CASAC Oxides of Nitrogen and Sulfur Secondary Review Panel in the areas of expertise described above. Nominations should be submitted in electronic format through the EPA Web site: http://yosemite.epa.gov/sab/sabproduct.nsf/Web/participatepanelformation?OpenDocument. To receive full consideration, nominations should include all of the information requested below.

EPA's SAB Staff Office requests contact information about the person making the nomination; contact information about the nominee; the disciplinary and specific areas of expertise of the nominee; the nominee's resume or curriculum vitae; sources of recent grant and/or contract support; and a biographical sketch of the nominee indicating current position, educational background, research activities, and recent service on other national advisory committees or national professional organizations.

Persons having questions about the nomination procedures, or who are unable to submit nominations through the SAB Web site, should contact Dr. Stallworth as noted above. Nominations should be submitted in time to arrive no later than April 17, 2014. EPA values and welcomes diversity. In an effort to obtain nominations of diverse candidates, EPA encourages nominations of women and men of all racial and ethnic groups.

The EPA SAB Staff Office will acknowledge receipt of nominations. The names and biosketches of qualified nominees identified by respondents to this Federal Register notice, and additional experts identified by the SAB Staff will be posted in a List of Candidates for the NOX and SOX Secondary Review Panel on the SAB Web site at http://yosemite.epa.gov/sab/sabproduct.nsf/fedrgstractivites/NOx%20SOx%20Secondary%20NAAQS%20Review?OpenDocument. Public comments on the List of Candidates will be accepted for 21 days. The public will be requested to provide relevant information or other documentation on nominees that the SAB Staff Office should consider in evaluating candidates.

For the EPA SAB Staff Office, a balanced subcommittee or review panel includes candidates who possess the necessary domains of knowledge, the relevant scientific perspectives (which, among other factors, can be influenced by work history and affiliation), and the collective breadth of experience to adequately address the charge. In forming this expert panel, the SAB Staff Office will consider public comments on the List of Candidates, information provided by the candidates themselves, and background information independently gathered by the SAB Staff Office. Selection criteria to be used for panel membership include: (a) Scientific and/or technical expertise, knowledge, and experience (primary factors); (b) availability and willingness to serve; (c) absence of financial conflicts of interest; (d) absence of an appearance of a loss of impartiality; (e) skills working in committees, subcommittees and advisory panels; and, (f) for the panel as a whole, diversity of expertise and scientific points of view.

The SAB Staff Office's evaluation of an absence of financial conflicts of interest will include a review of the “Confidential Financial Disclosure Form for Special Government Employees Serving on Federal Advisory Committees at the U.S. Environmental Protection Agency” (EPA Form 3110-48). This confidential form allows government officials to determine whether there is a statutory conflict between a person's public responsibilities (which include membership on an EPA federal advisory committee) and private interests and activities, or the appearance of a loss of impartiality, as defined by federal regulation. The form may be viewed and downloaded from the following Web address http://yosemite.epa.gov/sab/sabproduct.nsf/Web/ethics?OpenDocument. The EPA provides information about ethics for advisory members at the following Web address: http://yosemite.epa.gov/sab/sabproduct.nsf/Web/ethics?OpenDocument.

The approved policy under which the EPA SAB Office selects subcommittees and review panels is described in the following document: Overview of the Panel Formation Process at the Environmental Protection Agency Science Advisory Board (EPA-SAB-EC-02-010), which is posted on the SAB Web site at http://www.epa.gov/sab/pdf/ec02010.pdf.

Dated: March 18, 2014.
Thomas H. Brennan,
Deputy Director, EPA Science Advisory Board Staff Office.

[FR Doc. 2014-06830 Filed 3-26-14; 8:45 am]

BILLING CODE 6560-50-P